ENVIRONMENTAL PROTECTION AGENCY

[FRL-8498-1]

Science Advisory Board Staff Office, EPA Clean Air Scientific Advisory Committee; Notification of a Public Advisory Committee Meeting of the CASAC Lead Review Panel for the Review of the Lead National Ambient Air Quality Standards

AGENCY: Environmental Protection Agency (EPA).

ACTION: Notice.

SUMMARY: The Environmental Protection Agency (EPA or Agency) Science Advisory Board (SAB) Staff Office announces a public meeting of the Clean Air Scientific Advisory Committee (CASAC) Lead Review Panel (CASAC Panel) to review the Advance Notice of Proposed Rulemaking (ANPR) on the National Ambient Air Quality Standards (NAAQS) for Lead.

DATES: The meeting will be held from 9 a.m. (Eastern Time) on Wednesday, December 12, 2007, through 1 p.m. (Eastern Time) on Thursday, December 13, 2007.

Location: The meeting will take place at the Mandarin Oriental, 1330 Maryland Avenue, SW., Washington, DC 20024, telephone: 202-554-8588.

FOR FURTHER INFORMATION CONTACT: Any member of the public who wishes to submit a written or brief oral statement (five minutes or less) or wants further information concerning these meetings must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC or the EPA SAB can be found on the EPA Web site at http://www.epa.gov/sab.

SUPPLEMENTARY INFORMATION:

Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Lead Review Panel consists of the seven members of the chartered CASAC supplemented by subject matter experts. The CASAC Lead Review Panel provides advice and recommendations to EPA concerning lead in ambient air. The Panel complies with the provisions of FACA and all appropriate SAB Staff Office procedural policies.

Section 109(d)(1) of the CAA requires that the Agency periodically review and revise, as appropriate, the air quality criteria and the NAAQS for the “criteria” air pollutants, including lead. In February 2007, the CASAC Panel met to conduct a peer-review of the Agency's 1st Draft Lead Staff Paper and the Draft Lead Exposure and Risk Assessments technical support document, developed by EPA's Office of Air Quality Planning and Standards (OAQPS), within the Office of Air and Radiation (OAR). The 1st Draft Lead Staff Paper, which is based on key scientific and technical information contained in the Agency's Final Air Quality Criteria Document (AQCD) for Lead, included assessments and preliminary analyses related to air quality characterization, integration and evaluation of health information, human exposure analysis and health risk assessment, and evaluation and analysis of information on vegetation damage and other welfare effects. The Draft Lead Exposure and Risk Assessments technical support document described the methodology and presented the results of the pilot phase human exposure and health risk assessments and ecological risk assessments for a number of case studies. The CASAC's letter/report to the Administrator concerning this review (EPA-CASAC-07-003, dated March 27, 2007) is posted on the SAB Web site.

In August 2007, the CASAC Panel held a public advisory meeting to review EPA's 2nd Draft Lead Human Exposure and Health Risk Assessments document, which was limited in focus to draft lead human exposure and health risk assessments for selected, full-scale case studies. The CASAC's letter/report to the Administrator concerning this review (EPA-CASAC-07-007, dated September 27, 2007) is posted on the SAB Web site. In that letter, the CASAC indicated it would review the Agency's Final Lead Staff Paper and Final Lead Risk Assessment Report for the purpose of offering additional, unsolicited advice to the EPA Administrator as the Agency develops the proposed rule for the Lead NAAQS. On November 1, 2007, EPA released the Review of the National Ambient Air Quality Standards for Lead: Policy Assessment of Scientific and Technical Information—OAQPS Staff Paper (Final Lead Staff Paper, November 2007), in accordance with a court-ordered schedule; and the related technical support document, Lead: Human Exposure and Health Risk Assessments for Selected Case Studies (Final Lead Risk Assessment Report, November 2007).

The Agency is implementing its new and improved process for conducting NAAQS reviews (http://www.epa.gov/ttn/naaqs/) during the course of the Lead NAAQS review. As part of this revised NAAQS review process, the Agency intends to issue an ANPR on the NAAQS for Lead around the end of November 2007 for publication in the Federal Register. The ANPR, which draws heavily from EPA's Final Lead Staff Paper and the Final Lead Risk Assessment Report, presents the range of policy options that the Agency is considering with respect to the NAAQS for Lead. The purpose of this public advisory meeting is for the CASAC to provide independent advice and recommendations on these policy options under consideration by EPA.

Technical Contacts: Any questions concerning the ANPR or the Agency's Final Lead Staff Paper or Final Lead Risk Assessment Report can be directed to Dr. Deirdre Murphy, OAQPS, at telephone: 919-541-0729, or e-mail: murphy.deirdre@epa.gov.

Availability of Meeting Materials: The Final Lead Staff Paper and the Final Lead Risk Assessment Report are posted on the Agency's Technology Transfer Network (TTN) Web site at URL: http://www.epa.gov/ttn/naaqs/standards/pb/s_pb_index.html, in the “Documents from Current Review” section under “Staff Papers” and “Technical Documents,” respectively. Around the end of November 2007, the Agency will sign the ANPR for publication in the Federal Register, and will also post this on the same Web site at the URL above, in the “Documents from Current Review” section under “Federal Register Notices.” A copy of the draft agenda and other materials for this CASAC meeting will be posted on the SAB Web site prior to the meeting.

Procedures for Providing Public Input: Interested members of the public may submit relevant written or oral information for the CASAC Lead Review Panel to consider during the advisory process. Oral Statements: In general, individuals or groups requesting an oral presentation at a public meeting will be limited to five minutes per speaker, with no more than a total of one hour for all speakers. Interested parties should contact Mr. Butterfield, DFO, in writing (preferably via e-mail), by Wednesday, December 5, 2007, at the contact information noted above, to be placed on the list of public speakers for these meetings. Written Statements: Written statements should be received in the SAB Staff Office by Friday, December 7, 2007, so that the information may be made available to the CASAC Panel for their consideration prior to these meetings. Written statements should be supplied to the DFO in the following formats: one hard copy with original signature (optional), and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the first meeting, to give EPA as much time as possible to process your request.

Dated: November 14, 2007.
Vanessa T. Vu,
Director, EPA Science Advisory Board Staff Office.

[FR Doc. E7-22665 Filed 11-19-07; 8:45 am]

BILLING CODE 6560-50-P